DEPARTMENT OF ENERGY

[GDO Docket No. EA-182-F]

Application for Renewal of Authorization To Export Electric Energy; H.Q. Energy Services (US) Inc.

AGENCY: Grid Deployment Office, Department of Energy.

ACTION: Notice of application.

SUMMARY: H.Q. Energy Services (US) Inc. (the Applicant or HQUS) has applied for renewal of its authorization to transmit electric energy from the United States to Canada pursuant to the Federal Power Act.

DATES: Comments, protests, or motions to intervene must be submitted on or before August 6, 2025.

ADDRESSES: Comments, protests, motions to intervene, or requests for more information should be addressed by electronic mail to Electricity.Exports@hq.doe.gov.

FOR FURTHER INFORMATION CONTACT: Janessa Zucchetto, (240) 474-8226, Electricity.Exports@hq.doe.gov.

SUPPLEMENTARY INFORMATION: The United States Department of Energy (DOE) regulates electricity exports from the United States to foreign countries in accordance with section 202(e) of the Federal Power Act (FPA) (16 U.S.C. 824a(e)) and regulations thereunder (10 CFR 205.300 et seq.). Sections 301(b) and 402(f) of the DOE Organization Act (42 U.S.C. 7151(b) and 7172(f)) transferred this regulatory authority, previously exercised by the now-defunct Federal Power Commission, to DOE.

Section 202(e) of the FPA provides that an entity which seeks to export electricity must obtain an order from DOE authorizing that export (16 U.S.C. 824a(e)). On April 10, 2023, the authority to issue such orders was delegated to the DOE's Grid Deployment Office (GDO) under Redelegation Order No. S3-DEL-GD1-2023.

On March 12, 2025, HQUS filed an application (Application or App) for renewal of export authorization to transmit electric energy from the United States to Canada for a term of five years. App. at 1.

According to the Application, HQUS is a power marketer with its principal place of business in Hartford, CT. Id. at 1. The Applicant states that it is “a wholly-owned subsidiary of H.Q. Energy Holdings, Inc. and an indirect wholly-owned subsidiary of Hydro-Quebec[.]” Id. at 2. HQUS represents that it is “an energy marketer engaged [sic] the business of buying and selling electricity for its own account and brokering electricity for others, transmission services and related activities” and that it “has been authorized by [the Federal Energy Regulatory Commission] to sell electricity in interstate commerce at market-based rates.” Id. at 3.

The Applicant states that it “neither owns generation resources, nor has a franchised service area or native load obligation.” App. at 5. HQUS represents that “[t]he electric energy that [it] will export to Canada from these markets, on either a firm or interruptible basis, will not impair the sufficiency of the electric energy supply within the United States.” Id. at 7. The Applicant also states that it “does not have the ability to cause total exports on cross-border facilities to exceed the authorized instantaneous transmission rate[.]” Id. at 6. HQUS represents that it will schedule its export transactions “in compliance with applicable [North American Electric Reliability Corporation] reliability criteria, standards and guidelines in effect at the time of a proposed export along with those of relevant regional reliability organizations.” Id. at 9.

The existing international transmission facilities to be utilized by the Applicant have been previously authorized by Presidential permits issued pursuant to Executive Order 10485, as amended, and are appropriate for open access transmission by third parties. See App. at Exhibit C.

Procedural Matters: Any person desiring to be heard in this proceeding should file a comment or protest to the Application at Electricity.Exports@hq.doe.gov. Protests should be filed in accordance with Rule 211 of Federal Energy Regulatory Commission's (FERC's) Rules of Practice and Procedure (18 CFR 385.211). Any person desiring to become a party to this proceeding should file a motion to intervene at Electricity.Exports@hq.doe.gov in accordance with FERC Rule 214 (18 CFR 385.214).

Comments and other filings concerning HQUS' Application should be clearly marked with GDO Docket No. EA-182-F. Additional copies are to be provided directly to Marie-Eve Cayer, Senior Legal Counsel, Hydro Quebec, 800 De Maisonneuve East Blvd., 11th Floor, Montreal, Quebec H2L 4M8, Canada, cayer.maireeve@hydroquebec.com, and Jerry Pfeffer, Energy Industries Advisor, Skadden, Arps, Slate, Meagher & Flom LLP, 1440 New York Avenue NW, Washington, DC 20005, jerry.pfeffer@skadden.com.

A final decision will be made on the requested authorization after the environmental impacts have been evaluated pursuant to DOE's National Environmental Policy Act Implementing Procedures (10 CFR part 1021) and after DOE evaluates whether the proposed action will have an adverse impact on the sufficiency of supply or reliability of the United States electric power supply system.

Copies of this Application will be made available, upon request, by accessing the program website at https://www.energy.gov/gdo/pending-applications-0 or by emailing Electricity.Exports@hq.doe.gov.

Signing Authority

This document of the Department of Energy was signed on June 30, 2025, by Chris Wright, Secretary of Energy, U.S. Department of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on July 2, 2025.
Treena V. Garrett,
Federal Register Liaison Officer, U.S. Department of Energy.

[FR Doc. 2025-12559 Filed 7-3-25; 8:45 am]

BILLING CODE 6450-01-P